DEPARTMENT OF EDUCATION

34 CFR Chapter III

Proposed Waiver and Extension of the Project Period for the National Dropout Prevention Center for Students With Disabilities

[Catalog of Federal Domestic Assistance (CFDA) Number: 84.326W.]

AGENCY: Office of Special Education Programs (OSEP), Office of Special Education and Rehabilitative Services (OSERS), Department of Education.

ACTION: Proposed waiver and extension of the project period.

SUMMARY: The Secretary proposes to waive the requirements in 34 CFR 75.250 and 75.261(a) and (c)(2) of the Education Department General Administrative Regulations that, respectively, generally prohibit project periods exceeding five years and project period extensions involving the obligation of additional Federal funds. The proposed waiver and extension of the project period would enable the currently funded National Dropout Prevention Center for Students with Disabilities to receive funding from October 1, 2013, through September 30, 2014.

DATES: We must receive your comments on or before March 22, 2013.

ADDRESSES: Address all comments about this proposed waiver and extension of the project period to Selete Avoke, U.S. Department of Education, 400 Maryland Avenue SW., room 4158, Potomac Center Plaza (PCP), Washington, DC 20202-2600.

If you prefer to send your comments by email, use the following address: selete.avoke@ed.gov. You must include the phrase “Proposed waiver and extension of the project period” in the subject line of your message.

FOR FURTHER INFORMATION CONTACT: Selete Avoke. Telephone: (202) 245-7260 or by email: selete.avoke@ed.gov.

If you use a telecommunications device for the deaf or a text telephone, call the Federal Relay Service, toll free, at 1-800-877-8339.

SUPPLEMENTARY INFORMATION:

Invitation to Comment: We invite you to submit comments regarding this proposed waiver and extension. During and after the comment period, you may inspect all public comments about this proposed waiver and extension of the project period in room 4158, PCP, 550 12th Street, SW., Washington, DC, between the hours of 8:30 a.m. and 4:00 p.m., Washington, DC time, Monday through Friday of each week, except Federal holidays.

Assistance to Individuals with Disabilities in Reviewing the Rulemaking Record: On request, we will provide an appropriate accommodation or auxiliary aid to an individual with a disability who needs assistance to review the comments or other documents in the public rulemaking record for this notice of proposed waiver and extension of the project period. If you want to schedule an appointment for this type of aid, please contact the person listed under FOR FURTHER INFORMATION CONTACT.

Background

On June 23, 2008, the Department published a notice in the Federal Register (73 FR 35376) inviting applications for new awards for fiscal year (FY) 2008 for a National Dropout Prevention Center for Students with Disabilities (Center). The establishment and operation of the Center was funded under the Technical Assistance and Dissemination to Improve Services and Results for Children with Disabilities (TA&D) program, authorized under section 663 of the Individuals with Disabilities Education Act (IDEA). Its purpose is to provide States and local educational agencies (LEAs) with technical assistance (TA) on (1) implementing and evaluating effective comprehensive dropout prevention, reentry, and school completion models and practices for students with disabilities; (2) developing and improving data collection systems to track students at risk of dropping out; and (3) designing training for policymakers, administrators, and practitioners that will help them support efforts to improve dropout prevention, reentry, and school completion for students with disabilities.

Based on the selection criteria published in the 2008 notice inviting applications, the Department made one award for a period of 60 months to Clemson University to establish the Center, which is currently known as the National Dropout Prevention Center for Students with Disabilities. The Center has the following four interrelated goals that reflect its overarching purpose:

• Goal 1: Increase the awareness of policymakers, administrators, and practitioners about dropout prevention, reentry, and school completion.

• Goal 2: Increase the number of States that set and meet reasonable and rigorous performance targets for State Performance Plan Indicators 1 ¹ and 2.²

¹ Indicator 1: Percent of youth with individualized education programs (IEPs) graduating from high school with a regular diploma (20 U.S.C. 1416 (a)(3)(A)).

² Indicator 2: Percent of youth with IEPs dropping out of high school (20 U.S.C. 1416 (a)(3)(A)).

• Goal 3: Help State educational agencies (SEAs) and

LEAs develop and improve data systems to track students at risk of dropping out.

• Goal 4: Help SEAs and LEAs implement and evaluate effective, comprehensive school-completion models, practices, and systems for students with disabilities.

The Center works to accomplish these goals through a combination of activities in the following areas: (1) Knowledge development activities to synthesize what is currently known about dropout prevention for students with disabilities, and to develop a series of high-quality products that can be used by States in designing and developing effective dropout prevention programs; (2) TA to SEAs, LEAs, and organizations to increase their capacity to design and implement effective dropout prevention, reentry, and school completion models and practices; (3) collaboration with a variety of organizations that provide direct program services and TA to education agencies that provide educational programs and services to students with disabilities in order to prepare and disseminate information and materials that will increase the awareness and use of research-validated practices by a variety of audiences; and (4) dissemination of knowledge and information about effective dropout prevention programs, policies, and resources to SEAs and LEAs.

The Center's current project period is scheduled to end on September 30, 2013. We do not believe that it would be in the public interest to run a competition for a new Center this year because the Department is planning to change the organization of its TA activities to better meet the needs of States and LEAs for TA relating to transition to college and the workforce, including dropout prevention, for students with disabilities. We also have concluded that it would be contrary to the public interest to have a lapse in the provision of TA services currently provided by the Center pending the changes to the organization of the Department's TA activities. For these reasons, the Secretary proposes to waive the requirements in 34 CFR 75.250, which prohibit project periods exceeding five years, and waive the requirements in 34 CFR 75.261(a) and (c)(2), which limit the extension of a project period if the extension involves the obligation of additional Federal funds. The waiver would allow the Department to issue a continuation award in the amount of $665,000 to Clemson University for an additional 12-month period, which should ensure that the Center's TA, training, and dissemination of information to families, SEAs, LEAs, and other State agencies will not be interrupted.

Any activities to be carried out during the year of the continuation award would have to be consistent with, or be a logical extension of, the scope, goals, and objectives of the grantee's application as approved in the 2008 National Dropout Prevention Center for Students with Disabilities competition.

If the proposed waiver and extension of the project period are announced in a final notice in the Federal Register, the requirements applicable to continuation awards for this competition, set forth in the June 23, 2008, notice inviting applications, and the requirements in 34 CFR 75.253 would apply to any continuation awards sought by the current National Dropout Prevention Center for Students with Disabilities grantee. If we announce the waiver and extension as final, we will base our decisions regarding a continuation award on the program narrative, budget, budget narrative, and program performance report submitted by the current grantee, and the requirements in 34 CFR 75.253.

Regulatory Flexibility Act Certification

The Department certifies that the proposed waiver and extension of the project period would not have a significant economic impact on a substantial number of small entities.

The only entity that would be affected by the proposed waiver and extension of the project period is the current grantee.

The Secretary certifies that the proposed waiver and extension would not have a significant economic impact on this entity because the extension of an existing project imposes minimal compliance costs, and the activities required to support the additional year of funding would not impose additional regulatory burdens or require unnecessary Federal supervision.

Paperwork Reduction Act of 1995

This notice of proposed waiver and extension of the project period does not contain any information collection requirements.

Intergovernmental Review

This program is subject to Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: February 13, 2013.
Michael Yudin,
Acting Assistant Secretary for Special Education and Rehabilitative Services.

[FR Doc. 2013-03870 Filed 2-19-13; 8:45 am]

BILLING CODE 4000-01-P